DEPARTMENT OF ENERGY

Office of Fossil Energy

[Docket Nos. FE C&E 01-82, et al.]

Certification Notice—204; Notice of Filings of Coal Capability of Pierce Power, LLC, et al.

AGENCY: Office of Fossil Energy, Department of Energy.

ACTION: Notice of Filing.

SUMMARY: Pierce Power LLC, Duke Energy Murray, LLC, Duke Energy Enterprise, LLC, Duke Energy Hot Spring, LLC, Duke Energy Southaven, LLC, Duke Energy Hinds, LLC, Cogen Power II, Whiting Clean Energy, Inc., Lone Oak Energy Center, LLC, Haywood Energy Center, LLC, and Calpine Construction Finance Company, L.P. submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric Powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load Powerplant, that such Powerplant has the capability to use coal or another alternate fuel. Such certification establishes compliance with section 201(a) as of the date filed with the Department of Energy. The Secretary is required to publish a notice in the Federal Register that a certification has been filed. The following owners/operators of the proposed new baseload powerplants have filed a self-certification in accordance with section 201(d).

Owner: Pierce Power LLC [C&E 01-82].

Operator: Pierce Power LLC.

Location: Pierce County, Washington.

Plant Configuration: Simple cycle gas turbines.

Capacity: 170 MW.

Fuel: Natural Gas.

Purchasing Entities: Wholesale energy market.

In-Service Date: July 25, 2001.

Owner: Duke Energy Murray, LLC [C&E 01-83].

Operator: Duke Energy Murray, LLC.

Location: Murray County, GA.

Plant Configuration: Simple cycle gas turbines.

Capacity: 1240 MW.

Fuel: Natural gas.

Purchasing Entities: None.

In-Service Date: June 1, 2002.

Owner: Duke Energy Enterprise, LLC [C&E 01-84].

Operator: Duke Energy Enterprise, LLC.

Location: Clarke County, MS.

Plant Configuration: Simple-cycle gas turbines.

Capacity: 640 MW.

Fuel: Natural gas.

Purchasing Entities: None.

In-Service Date: June 1, 2002.

Owner: Duke Energy Hot Spring, LLC [C&E 01-85].

Operator: Duke Energy Hot Spring, LLC.

Location: Hot Spring County, AR.

Plant Configuration: Simple-cycle gas turbines.

Capacity: 620 MW.

Fuel: Natural gas.

Purchasing Entities: None.

In-Service Date: June 1, 2002

Owner: Duke Energy Southaven, LLC [C&E 01-86.

Operator: Duke Energy Southaven, LLC.

Location: DeSoto County, MS.

Plant Configuration: Simple cycle gas turbines.

Capacity: 640 MW.

Fuel: Natural gas.

Purchasing Entities: None.

In-Service Date: June 1, 2002.

Owner: Duke Energy Hinds, LLC [C&E 01-87].

Operator: Duke Energy Hinds, LLC.

Location: Hinds County, MS.

Plant Configuration: Simple-cycle gas turbines.

Capacity: 520 MW.

Fuel: Natural gas.

Purchasing Entities: None.

In-Service Date: June 1, 2001.

Owner: Cogen Power II, Inc. [C&E 01-88].

Operator: Quest Power.

Location: Cassia County, ID.

Plant Configuration: Combined cycle.

Capacity: 252 MW.

Fuel: Natural gas.

Purchasing Entities: Municipalities.

In-Service Date: Summer, 2003.

Owner: Whiting Clean Energy, Inc. [C&E 01-89].

Operator: Whiting Clean Energy, Inc..

Location: Whiting, IN.

Plant Configuration: Combined cycle.

Capacity: 545 MW.

Fuel: Natural gas.

Purchasing Entities: Wholesale power market.

In-Service Date: September 1, 2001.

Owner: Lone Oak Energy Center, L.L.C. [C&E 01-90].

Operator: Calpine Eastern Corporation.

Location: Lowndes County, MS.

Plant Configuration: Combined cycle.

Capacity: 920 MW.

Fuel: Natural gas.

Purchasing Entities: Wholesale power market.

In-Service Date: July, 2003.

Owner: Haywood Energy Center, L.L.C. [C&E 01-91].

Operator: Calpine Eastern Corporation.

Location: Haywood County, TN.

Plant Configuration: Combined cycle.

Capacity: 780 MW.

Fuel: Natural gas.

Purchasing Entities: Wholesale power market.

In-Service Date: November , 2003.

Owner: Calpine Construction Finance Company, L.P. [C&E 01-92].

Operator: Calpine Eastern Corporation.

Location: Polk County, FL.

Plant Configuration: Combined cycle.

Capacity: 585 MW.

Fuel: Natural gas.

Purchasing Entities: Wholesale power market.

In-Service Date: August, 2003.

Issued in Washington, D.C., August 20, 2001.
Anthony J. Como,
Deputy Director, Electric Power Regulation, Office of Coal & Power Im/Ex., Office of Coal & Power Systems, Office of Fossil Energy.

[FR Doc. 01-21419 Filed 8-23-01; 8:45 am]

BILLING CODE 6450-01-P